DEPARTMENT OF HEALTH AND HUMAN SERVICES

Meeting of the National Vaccine Advisory Committee

AGENCY: Department of Health and Human Services, Office of the Secretary, Office of Public Health and Science.

ACTION: Notice of meetings via conference call.

SUMMARY: As stipulated by the Federal Advisory Committee Act, the Department of Health and Human Services (HHS) is hereby giving notice that the National Vaccine Advisory Committee (NVAC) will hold two teleconference meetings. The meetings are open to the public. Pre-registration is required for both public attendance and comment. Individuals who wish to attend the meetings and/or participate in the public comment session should either e-mail nvpo@hhs.gov or call 202-690-5566 to register.

DATES: The meetings will be held on July 27, 2009, from 3 p.m. to 5 p.m. EDT and on August 24, 2009, from 3 p.m. to 5 p.m. EDT.

ADDRESSES: The meetings will occur by teleconference. To attend, please call 1-888-677-1385, passcode “NVAC.”

FOR FURTHER INFORMATION CONTACT: Ms. Andrea Krull, Public Health Advisor, National Vaccine Program Office, Department of Health and Human Services, Room 715-H, Hubert H. Humphrey Building, 200 Independence Avenue, SW., Washington, DC 20201. Phone: (202) 690-5566; Fax: (202) 260-1165; e-mail: nvpo@hhs.gov.

SUPPLEMENTARY INFORMATION: Pursuant to Section 2101 of the Public Health Service Act (42 U.S.C. section 300aa-1), the Secretary of Health and Human Services was mandated to establish the National Vaccine Program to achieve optimal prevention of human infectious diseases through immunization and to achieve optimal prevention against adverse reactions to vaccines. The National Vaccine Advisory Committee was established to provide advice and make recommendations to the Director of the National Vaccine Program on matters related to the Program's responsibilities. The Assistant Secretary for Health serves as Director of the National Vaccine Program.

These are special meetings of the NVAC. Discussions will surround issues related to the Novel Influenza A (H1N1) outbreak. The Committee will discuss the activities and actions of the various HHS agencies and Federal advisory committees that address vaccine issues as it relates to the mission of NVAC. Representatives of State and local health associations will also provide their perspective.

For these special meetings, members of the public are invited to attend by teleconference via a toll-free call-in phone number. The call-in number will be operator assisted to provide members of the public the opportunity to provide comments to the Committee. Public participation and ability to comment will be limited to space and time available. Public comment will be limited to no more than three minutes per speaker. Pre-registration is required for both public attendance and comment. Individuals who plan to attend and need special assistance, such as accommodation for hearing impairment or other reasonable accommodations, should notify the designated contact person at least one week prior to the meeting.

Any members of the public who wish to have printed material distributed to NVAC should submit materials to the Executive Secretary, NVAC, through the contact person listed above prior to close of business one week before each meeting (conference call). A draft agenda and any additional materials will be posted on the NVAC Web site (http://www.hhs.gov/nvpo/nvac/) prior to the meeting.

Dated: June 29, 2009.
Bruce Gellin,
Deputy Assistant Secretary for Health, Director, National Vaccine Program Office.

[FR Doc. E9-15782 Filed 7-2-09; 8:45 am]

BILLING CODE 4150-44-P